SECURITIES AND EXCHANGE COMMISSION

[File No. 500-1]

In the Matter of Cadema Corp. and Caredata.com, Inc.; Order of Suspension of Trading

September 16, 2008.

It appears to the Securities and Exchange Commission that there is a lack of current and accurate information concerning the securities of Cadema Corp. because it has not filed any periodic reports since the period ended September 30, 2002.

It appears to the Securities and Exchange Commission that there is a lack of current and accurate information concerning the securities of Caredata.com, Inc. because it has not filed any periodic reports since the period ended September 30, 2000.

The Commission is of the opinion that the public interest and the protection of investors require a suspension of trading in the securities of the above-listed companies.

Therefore, it is ordered, pursuant to Section 12(k) of the Securities Exchange Act of 1934, that trading in the securities of Cadema Corp. and Caredata.com, Inc. is suspended for the period from 9:30 a.m. EDT on September 16, 2008, through 11:59 p.m. EDT on September 29, 2008.

By the Commission.
Florence E. Harmon,
Acting Secretary.

[FR Doc. E8-21938 Filed 9-16-08; 4:15 pm]

BILLING CODE 8010-01-P